DEPARTMENT OF COMMERCE

International Trade Administration

[A-475-818]

Certain Pasta From Italy: Notice of Partial Rescission of Antidumping Duty Administrative Review

AGENCY: Enforcement and Compliance, International Trade Administration, Department of Commerce.

DATES: Applicable December 20, 2019.

FOR FURTHER INFORMATION CONTACT: Jonathan Hall-Eastman or Joy Zhang, AD/CVD Operations, Office III, Enforcement and Compliance, International Trade Administration, U.S. Department of Commerce, 1401 Constitution Avenue NW, Washington, DC 20230; telephone: (202) 482-1468 or (202) 482-1168, respectively.

SUPPLEMENTARY INFORMATION:

Background

On July 1, 2019, the Department of Commerce (Commerce) published a notice of opportunity to request an administrative review of the antidumping duty order on certain pasta from Italy.¹ Pursuant to requests from interested parties, and in accordance with section 751(a) of the Tariff Act of 1930, amended (the Act), Commerce published in the Federal Register the notice of initiation of an antidumping duty administrative review with respect to the following companies covering the period July 1, 2018, through June 30, 2019:

¹ See Antidumping or Countervailing Duty Order, Finding, or Suspended Investigation; Opportunity To Request Administrative Review, 84 FR 31295 (July 1, 2019).

Aldino S.r.l. (Aldino), F. Divella S.p.A. (F. Divella), Ghigi 1870 S.p.A. (Ghigi), Industria Alimentare Colavita S.p.A. (Indalco), La Molisana S.p.A. (La Molisana), Liguori Pastificio dal 1820 S.p.A. (Liguori Pastificio), Newlat Food S.p.A. (Newlat Food), Pastificio Fratelli DeLuca S.r.l. (Pastificio Fratelli), Pasta Lensi, S.r.l. (Pasta Lensi), Pasta Zara S.p.A. (Pasta Zara), Pasta Berruto S.p.A. (Pasta Berruto), Pastificio Di Martino Gaetano & Flli S.p.A. (Pastificio Di Martino), Pastificio Rey S.r.L. (Pastificio Rey), Rummo S.p.A. (Rummo), San Remo Macaroni Company (San Remo Macaroni), Tesa SrL (Tesa), and Valdigrano di Flavio Pagani S.r.L. (Valdigrano di Flavio).²

² See Initiation of Antidumping and Countervailing Duty Administrative Reviews, 84 FR 47244 (September 9, 2019) (Initiation Notice).

On September 13, 2019, Pasta Lensi timely withdrew its request for a review.³ On October 29, 2019, Indalco timely withdrew its request for a review.⁴ On December 6, 2019, Aldino timely withdrew its request for a review.⁵ No other party requested an administrative review of these companies.

³ See Pasta Lensi's Letter, “Pasta from Italy: Withdrawal of Request for Administrative Review,” dated September 13, 2019.

⁴ See Indalco's Letter, “Certain Pasta From Italy: Withdrawal of Request for

Antidumping Administrative Review of Indalco S.p.A.,” dated October 29, 2019.

⁵ See Aldino's Letter, “Pasta From Italy; Withdrawal of Request for Administrative Review,” dated December 6, 2019.

Partial Rescission of the 2018-2019 Administrative Review

Pursuant to 19 CFR 351.213(d)(1), Commerce will rescind an administrative review, in whole or in part, if the parties that requested a review withdraw the request within 90 days of the date of publication of the notice of initiation of the requested review. All of the aforementioned withdrawal requests were timely submitted and no other interested party requested an administrative review of these particular companies. Therefore, in accordance with 19 CFR 351.213(d)(1), and consistent with our practice,⁶ we are rescinding this review of the antidumping duty order on certain pasta from Italy, in part, with respect to Aldino, Indalco, and Pasta Lensi.

⁶ See, e.g., Certain Lined Paper Products from India: Notice of Partial Rescission of Antidumping Duty Administrative Review and Extension of Time Limit for the Preliminary Results of Antidumping Duty Administrative Review, 74 FR 21781 (May 11, 2009); see also Carbon Steel Butt-Weld Pipe Fittings from Thailand: Rescission of Antidumping Duty Administrative Review, 74 FR 7218 (February 13, 2009).

The review will continue with respect to the following companies: F. Divella, Ghigi/Zara,⁷ La Molisana, Liguori Pastificio, Newlat Food, Pastificio Fratelli, Pasta Berruto, Pastificio Di Martino, Pastificio Rey, Rummo, San Remo Macaroni, Tesa, and Valdigrano di Flavio.

⁷ We have collapased Ghigi 1870 S.p.A. and Pasta Zara S.p.A. (collectively Ghigi/Zara) since the 2015-2016 administrative review. See Certain Pasta From Italy: Final Results of Antidumping Duty Administrative Review; 2015-2016, 82 FR 57428 (December 5, 2017); see also Certain Pasta From Italy: Final Results of Antidumping Duty Administrative Review; 2016-2017, 83 FR 63627 (December 11, 2018).

Assessment

Commerce will instruct Customs and Border Protection (CBP) to assess antidumping duties on all appropriate entries. For the companies for which this review is rescinded, Aldino, Indalco, and Pasta Lensi, antidumping duties shall be assessed at rates equal to the cash deposit of estimated antidumping duties required at the time of entry, or withdrawal from warehouse, for consumption, during the period July 1, 2018, through June 30, 2019, in accordance with 19 CFR 351.212(c)(1)(i).

Commerce intends to issue appropriate assessment instructions directly to CBP 15 days after publication of this notice.

Notification to Importers

This notice serves as a reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of doubled antidumping duties.

Notification Regarding Administrative Protective Order

This notice serves as a final reminder to parties subject to administrative protective order (APO) of their responsibility concerning the disposition of proprietary information disclosed under an APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Act, and 19 CFR 351.213(d)(4).

Dated: December 16, 2019.
James Maeder,
Deputy Assistant Secretary for Antidumping and Countervailing Duty Operations.

[FR Doc. 2019-27536 Filed 12-19-19; 8:45 am]

BILLING CODE 3510-DS-P